DEPARTMENT OF ENERGY

Southwestern Power Administration; Robert D. Willis Hydropower Project—Rate Order No. SWPA-88

AGENCY: Southwestern Power Administration, DOE.

ACTION: Notice of rate order.

SUMMARY: The Acting Administrator of the Southwestern Power Administration (Southwestern) has confirmed, approved and placed into effect on an interim basis Rate Order No. SWPA-88 (Rate Order), which provides the rate schedule Wholesale Rates for Hydro Power and Energy at Robert D. Willis Hydropower Project (RDW-23). This new rate schedule for the Robert D. Willis Hydropower Project (Robert D. Willis) replaces the existing power rate under Rate Schedule RDW-15 which expires on September 30, 2025. Rate Schedule RDW-23 increases the annual wholesale power rate for Willis by 28.6 percent.

DATES: The effective period for the rate schedule specified in Rate Order No. SWPA-88 is October 1, 2025, through September 30, 2027, pending confirmation and approval by the Federal Energy Regulatory Commission (FERC) on a final basis, or until superseded.

FOR FURTHER INFORMATION CONTACT: Ms. Fritha Ohlson, Senior Vice President, Chief Operating Officer, Southwestern Power Administration, (918) 595-6684 or fritha.ohlson@swpa.gov.

SUPPLEMENTARY INFORMATION: On June 15, 2016, FERC confirmed and approved Rate Schedule RDW-15 under Rate Order No. SWPA-70 on a final basis through September 30, 2019. Rate Schedule RDW-15 was subsequently extended through September 30, 2025. Southwestern published a Federal Register notice (Proposed FRN) on May 16, 2025 (90 FR 21029), proposing to increase the annual rate by approximately 28.6 percent from $1,282,836 to $1,650,648. The Proposed FRN also initiated a 30-day public consultation and comment period. No written comments were received.

Following review of the proposal, Rate Order No. SWPA-88, which provides the rate for the hydro power and energy from Robert D. Willis Hydropower Project, is hereby confirmed, approved, and placed into effect on an interim basis. Southwestern will submit Rate Order No. SWPA-88 to FERC for confirmation and approval on a final basis.

UNITED STATES OF AMERICA

Department of Energy

Acting Administrator, Southwestern Power Administration

In the matter of: Southwestern Power Administration), Robert D. Willis Hydropower Project Rate Schedule, Rate Order No. SWPA-88

Order Confirming, Approving, and Placing Increased Power Rate Schedule in Effect on an Interim Basis ( )

Pursuant to sections 301(b) and 302(a) of the Department of Energy Organization Act, 42 U.S.C. 7151(b) and 7152(a), the functions of the Secretary of the Interior and the Federal Power Commission under Section 5 of the Flood Control Act of 1944, 16 U.S.C. 825s, relating to the Southwestern Power Administration (Southwestern), were transferred to, and vested in the Secretary of Energy. By Delegation Order No. S1-DEL-RATES-2016, effective November 19, 2016, the Secretary of Energy delegated: (1) the authority to develop power and transmission rates to Southwestern's Administrator; (2) the authority to confirm, approve, and place such rates into effect on an interim basis to the Deputy Secretary of Energy; and (3) the authority to confirm, approve, and place into effect on a final basis, or to remand or disapprove such rates, to the Federal Energy Regulatory Commission (FERC). By Delegation Order No. S1-DEL-S3-2024, effective August 30, 2024, the Secretary of Energy also delegated the authority to confirm, approve, and place such rates into effect on an interim basis to the Under Secretary for Infrastructure. By Redelegation Order No. S3-DEL-SWPA1-2023, effective April 10, 2023, the Under Secretary for Infrastructure redelegated the authority to confirm, approve, and place such rates into effect on an interim basis to the Southwestern Administrator.

Background

On December 17, 2015, in Rate Order No. SWPA-70, the Deputy Secretary of Energy placed into effect the current Robert D. Willis Hydropower Project (Robert D. Willis) rate schedule (RDW-15) on an interim basis for the period January 1, 2016, to September 30, 2019. FERC confirmed and approved RDW-15 on a final basis on June 15, 2016, for a period ending September 30, 2019. On September 22, 2019, in Rate Order No. SWPA-76, the Assistant Secretary for Electricity extended RDW-15 for two years, for the period of October 1, 2019, through September 30, 2021. On August 30, 2021, in Rate Order No. SWPA-79, the Administrator, Southwestern, extended RDW-15 for two years, for the period of October 1, 2021, through September 30, 2023. On September 25, 2023, in Rate Order No. SWPA-83, the Administrator, Southwestern, temporarily extended RDW-15 for one year, for the period of October 1, 2023, through September 30, 2024. On September 13, 2024, in Rate Order No. SWPA-86, the Administrator, Southwestern, temporarily extended RDW-15 for one year, for the period of October 1, 2024, through September 30, 2025.

Discussion

Southwestern's current rate schedule for the Robert D. Willis isolated rate system, RDW-15, is based on the 2015 Power Repayment Studies (PRS). Each subsequent annual PRS from 2016 through 2022 indicated the need for a revenue adjustment within a plus or minus five percent range of the current revenue estimate. It is Southwestern's practice for the Administrator to defer, on a case-by-case basis, revenue adjustments that are within plus or minus five percent of the revenue estimated from the current rate schedule. Therefore, the Administrator deferred revenue adjustments annually for Robert D. Willis through 2022. Southwestern prepared a 2023 Current PRS which indicated that the existing power rate would not satisfy present financial criteria regarding repayment of investment within a 50-year period due to increased operations and maintenance expenses as well as increased cost of replacements in the hydroelectric generating facilities. The 2023 Revised PRS indicates the need for an increase in annual revenues of $367,812 (28.6 percent) is necessary to accomplish repayment in the required number of years. Accordingly, Southwestern has prepared a new proposed rate schedule (RDW-23) based on the additional revenue requirement to ensure repayment.

Southwestern conducted the rate adjustment proceeding in accordance with title 10, part 903, subpart A of the Code of Federal Regulations (10 CFR part 903), “Procedures for Public Participation in Power and Transmission Rate Adjustments and Extensions.” Opportunities for public review and comment during a 30-day period on the proposed Robert D. Willis power rate were announced by a Federal Register notice published on May 16, 2025 (90 FR 21029), with written comments due June 16, 2025. Southwestern published the Federal Register notice, the proposed rate schedule, and the draft 2023 PRS on its website for interested parties to review and comment upon during the public comment period.

Following the conclusion of the comment period on June 16, 2025, Southwestern finalized the Power Repayment Studies and Rate Schedule RDW-23 for the proposed annual rate of $1,650,648 which is the lowest possible rate needed to satisfy the repayment criteria set forth within the provisions of U.S. Department of Energy (DOE) Order No. RA 6120.2. This rate represents an annual increase of 28.6 percent. The Acting Administrator made the decision to approve the rate proposal for implementation.

Southwestern will continue to perform its Power Repayment Studies annually, and if the 2025 results should indicate the need for additional revenues, another rate adjustment proceeding will be conducted to implement the updated revenue requirements.

Comments and Responses

Southwestern did not receive any written comments during the 30-day public review and comment period.

Availability of Information

Information regarding the rate adjustment proceeding, including the Final 2023 PRS and Rate Proposal, for Rate Schedule RDW-23 is available for public review in the offices of Southwestern Power Administration, 6655 S Lewis Ave, Tulsa, Oklahoma 74136. Rate Schedule RDW-23 is available on Southwestern's website at www.energy.gov/swpa/rates-and-repayment.

Certification of Rates

I have certified that the provisional rate under Rate Schedule RDW-23 is the lowest possible rate consistent with sound business principles. The rate was developed following administrative policies and applicable laws.

Ratemaking Procedure Requirements

Environmental Compliance

Southwestern has determined that this action fits within the following categorical exclusions listed in appendix B to subpart D of 10 CFR 1021.410: B4.3 (Electric power marketing rate changes). Categorically excluded projects and activities do not require preparation of either an environmental impact statement or an environmental assessment. A copy of the categorical exclusion determination is available on Southwestern's website at www.energy.gov/swpa/southwestern-power-administration.

Determination Under Executive Order 12866

Southwestern has an exemption from centralized regulatory review under Executive Order 12866; accordingly, no clearance of this notice by the Office of Management and Budget is required.

Submission to the Federal Energy Regulatory Commission

Rate Schedule RDW-23 herein confirmed, approved, and placed into effect on an interim basis, together with supporting documents, will be submitted to FERC for confirmation and final approval.

Order

In view of the foregoing and pursuant to the authority delegated to me by the Secretary of Energy, I hereby confirm, approve and place in effect on an interim basis, effective October 1, 2025, Rate Schedule RDW-23, Wholesale Rates for Hydro Power and Energy at Robert D. Willis Hydropower Project. The rate schedule shall remain in effect on a temporary basis through September 30, 2027, or until the FERC confirms and approves the rate on a final basis, or until it is superseded by a subsequent rate.

Signing Authority

This document of the Department of Energy was signed on August 20, 2025, by Marshall Boyken, Acting Administrator for Southwestern Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of DOE. This administrative process in no way alters the legal effect of this document upon publication in the Federal Register.

Signed in Washington, DC on August 22, 2025.

Jennifer Hartzell,

Alternate Federal Register Liaison Officer, U.S. Department of Energy.

Rate Schedule RDW-23

(Supersedes Rate Schedule RDW-15)

Effective October 1, 2025

United States Department of Energy Southwestern Power Administration

Rate Schedule RDW-23

Wholesale Rates for Hydro Power and Energy at Robert D. Willis Hydropower Project

Effective

During the period October 1, 2025, through September 30, 2027, in accordance with interim approval from Rate Order No. SWPA-88 issued by the Acting Administrator on August 20, 2025, and pursuant to final approval by the Federal Energy Regulatory Commission.

Applicable

To the power and energy purchased from the Southwestern Power Administration (Southwestern) for the sale of all Hydro Power and Energy generated at the Robert Douglas Willis Hydropower Project (Robert D. Willis) (formerly designated as Town Bluff).

Character and Conditions of Service

Three-phase, alternating current, delivered at approximately 60 Hertz, at the nominal voltage, at the point of delivery, and in such quantities as are specified by contract.

1. Wholesale Rates, Terms, and Conditions for Hydro Power and Energy

1.1. These rates shall be applicable regardless of the quantity of Hydro Power and Energy available or delivered; provided, however, that if an Uncontrollable Force prevents utilization of both of the project's power generating units for an entire billing period, and if during such billing period water releases were being made which otherwise would have been used to generate Hydro Power and Energy, then Southwestern shall, upon request, suspend billing for subsequent billing periods, until such time as at least one of the project's generating units is again available.

1.2. The term “Uncontrollable Force,” as used herein, shall mean any force which is not within the control of the party affected, including, but not limited to, failure of water supply, failure of facilities, flood, earthquake, storm, lightning, fire, epidemic, riot, civil disturbance, labor disturbance, sabotage, war, acts of war, terrorist acts, or restraint by court of general jurisdiction, which by exercise of due diligence and foresight such party could not reasonably have been expected to avoid.

1.3. Hydro Power Rates, Term, and Conditions:

1.3.1. Charge for the Period of October 1, 2025, through September 30, 2027 $137,554 per month ($1,650,648 per year) for Robert D. Willis Hydro Power and Energy purchased from October 1, 2025, through September 30, 2027.

[FR Doc. 2025-16340 Filed 8-25-25; 8:45 am]

BILLING CODE 6450-01-P